DEPARTMENT OF THE INTERIOR

Minerals Management Service

Notice of Public Hearings on the Draft Environmental Impact Statement for the Proposed 5-Year Outer Continental Shelf (OCS) Oil and Gas Leasing Program for 2007-2012

AGENCY: Minerals Management Service (MMS), Interior.

SUMMARY: Pursuant to the regulations implementing the procedural provisions of the National Environmental Policy Act (42 U.S.C. 4321, et seq.), the Minerals Management Service (MMS) will hold Public Hearings to solicit comments on the Draft EIS for the Proposed 2007-2012 OCS Oil and Gas 5-Year Leasing Program, as announced in the Federal Register notifying the availability of the Draft EIS on August 25, 2006.

Statements, both oral and written, will be received at the venues listed below. Persons wishing to speak may be put on the speakers' list by the MMS contacts in advance of the specific public hearing or may sign up at the hearing. Time limits may be set on oral testimony to allow time for all speakers to participate.

The following Public Hearings are planned for the DEIS.

Dates Locations for Public Hearings:

September 25, 2006—Unalaska City Council Chambers, Unalaska, Alaska, 6:30 p.m., contact: Mr. Albert Barros, (907) 334-5209.

September 26, 2006—Cold Bay Community Center, Cold Bay, Alaska, 7 p.m., contact: Mr. Albert Barros, (907) 334-5209.

September 27, 2006—Allan Nelson Community Building, Nelson Lagoon, Alaska, 4:30 p.m., contact: Mr. Albert Barros, (907) 334-5209.

September 28, 2006—Centerpoint Building, 1st Floor Conference Room, 3801 Centerpoint Drive, Anchorage, Alaska, 5 p.m., contact: Mr. Fred King, (907) 334-5271.

September 28, 2006—Sand Point City Council Chambers, Sand Point, Alaska, 7 p.m., contact: Mr. Albert Barros, (907) 334-5209.

October 9, 2006—City of Goodnews Bay Council Chambers, Goodnews Bay, Alaska, 5 p.m., contact: Mr. Albert Barros, (907) 334-5209.

October 10, 2006—Bristol Bay Borough Building, Naknek, Alaska, 6:30 p.m., contact: Mr. Albert Barros, (907) 334-5209.

October 11, 2006—Dillingham City Council Chambers, Dillingham, Alaska, 6:30 p.m., contact: Mr. Albert Barros, (907) 334-5209.

October 30, 2006—Marriott Houston Intercontinental at George Bush Intercontinental Airport, 18700 John F. Kennedy Blvd., Houston, Texas, 1 p.m., contact: Mr. Dennis Chew, (504) 736-2793.

October 31, 2006—Hampton Inn and Suites New Orleans-Elmwood, 5150 Mounes Street, Harahan, Louisiana, 1 p.m., contact: Mr. Dennis Chew, (504) 736-2793.

November 1, 2006—Riverview Plaza Hotel, 64 South Water Street, Mobile, Alabama, 1 p.m., contact: Mr. Dennis Chew, (504) 736-2793.

November 8, 2006—Nuiqsut Community Center, Nuiqsut, Alaska, 7 p.m., contact: Mr. Albert Barros, (907) 334-5209.

November 10, 2006—Kaktovik Community Center, Kaktovik, Alaska, 7 p.m., contact: Mr. Albert Barros, (907) 334-5209.

November 13, 2006—Robert James Community Center, Wainwright, Alaska, 7 p.m., contact: Mr. Albert Barros, (907) 334-5209.

November 14, 2006—Norfolk, Virginia (exact venue will be announced in a subsequent Federal Register Notice, please also check our Web site at http://www.mms.gov/5-year/), contact: Dr. Norman Froomer, (703) 787-1644.

November 14, 2006—Point Lay Community Center, Point Lay, Alaska, 7 p.m., contact: Mr. Albert Barros, (907) 334-5209.

November 15, 2006—Marriott Bay Point Resort, 4000 Marriott Drive, Panama City Beach, Florida, 1 p.m., contact: Mr. Dennis Chew, (504) 736-2793.

November 15, 2006—Kalgi Center, Point Hope, Alaska, 7 p.m., contact: Mr. Albert Barros, (907) 334-5209.

November 16, 2006—Inupiat Heritage Center, Barrow, Alaska, 7 p.m., contact: Mr. Albert Barros, (907) 334-5209.

Information concerning the Draft Environmental Impact Statement for the Proposed 5-Year Outer Continental Shelf Oil and Gas Leasing Program for 2007-2012 can be accessed at http://www.mms.gov/5-year/.

We would also like to correct an error in our August 25, 2006, Federal Register Notice of Availability of the DEIS. The correct address and phone number for the Alaska Region Office is: Alaska OCS Region, Minerals Management Service, 3801 Centerpoint Drive, Suite 500, Anchorage, Alaska, 99503-5823, (907) 334-5206/5207,

FOR FURTHER INFORMATION CONTACT: Minerals Management Service, Mr. James Bennett, Chief, Branch of Environmental Assessment, 381 Elden Street, Mail Stop 4042, Herndon, Virginia 20170, (703) 787-1660.

Dated: September 19, 2006.
Francis Hodsoll,
Acting Director, Minerals Management Service.

[FR Doc. 06-8267 Filed 9-21-06; 4:40 pm]

BILLING CODE 4310-MR-P